DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date.

FOR FURTHER INFORMATION CONTACT: OFAC: Associate Director for Global Targeting, tel.: (202) 622-2420; Assistant Director for Licensing, tel.: (202) 622-2480; Assistant Director for Regulatory Affairs, tel.: (202) 622-4855; Assistant Director for Sanctions Compliance & Evaluation, tel.: (202) 622-2490; or the Department of the Treasury's Office of the General Counsel: Office of the Chief Counsel (Foreign Assets Control), tel.: (202) 622-2410.

SUPPLEMENTARY INFORMATION:

Electronic Availability

The list of Specially Designated Nationals and Blocked Persons (SDN List) and additional information concerning OFAC sanctions programs are available on OFAC's Web site (http://www.treasury.gov/ofac).

Notice of OFAC Actions

On August 9, 2017, OFAC determined that the property and interests in property of the following persons are blocked under the relevant sanctions authority listed below.

1. AMELIACH ORTA, Francisco Jose (Latin: AMELIACH ORTA, Francisco José), Carabobo, Venezuela; DOB 14 Jun 1963; POB Valencia, Carabobo, Venezuela; citizen Venezuela; Gender Male; Cedula No. 7062172 (Venezuela); Constituent of Venezuela's Constituent Assembly for Valencia Municipality in Carabobo State; Member of Venezuela's Presidential Commission for the Constituent Assembly (individual) [VENEZUELA]. Designated pursuant to section 1(a)(ii)(C) of Executive Order 13692 of March 8, 2015, “Blocking Property and Suspending Entry of Certain Persons Contributing to the Situation in Venezuela” (E.O. 12692) for being a current or former official of the Government of Venezuela.

2. CHAVEZ FRIAS, Adan Coromoto (Latin: CHÁVEZ FRÍAS, Adán Coromoto), Barinas, Venezuela; DOB 11 Apr 1953; citizen Venezuela; Gender Male; Cedula No. 3915103 (Venezuela); Constituent of Venezuela's Constituent Assembly for Barinas Municipality in Barinas State; Secretary of Venezuela's Presidential Commission for the Constituent Assembly (individual) [VENEZUELA]. Designated pursuant to section 1(a)(ii)(C) of E.O. 13692 for being a current or former official of the Government of Venezuela.

3. D'AMELIO CARDIET, Tania, Vargas, Venezuela; DOB 05 Dec 1971; Gender Female; Cedula No. 11691429 (Venezuela); Rector of Venezuela's National Electoral Council (individual) [VENEZUELA]. Designated pursuant to section 1(a)(ii)(C) of E.O. 13692 for being a current or former official of the Government of Venezuela.

4. ESCARRA MALAVE, Hermann Eduardo, Miranda, Venezuela; DOB 08 Apr 1952; citizen Venezuela; Gender Male; Cedula No. 3820195 (Venezuela); Constituent of Venezuela's Constituent Assembly for Zamora Municipality in Miranda State; Member of Venezuela's Presidential Commission for the Constituent Assembly (individual) [VENEZUELA]. Designated pursuant to section 1(a)(ii)(A)(1) of E.O. 13692 for being responsible for or complicit in, or responsible for ordering, controlling, or otherwise directing, or to have participated in, directly or indirectly, actions or policies that undermine democratic processes or institutions in or in relation to Venezuela.

5. FARIAS PENA, Erika del Valle (Latin: FARÍAS PEÑA, Erika del Valle), Cojedes, Venezuela; DOB 31 Oct 1972; citizen Venezuela; Gender Female; Cedula No. 9493443 (Venezuela); Constituent of Venezuela's Constituent Assembly for Ezequiel Zamora Municipality in Cojedes State (individual) [VENEZUELA]. Designated pursuant to section 1(a)(ii)(C) of E.O. 13692 for being a current or former official of the Government of Venezuela.

6. LUGO ARMAS, Bladimir Humberto (a.k.a. LUGO ARMAS, Vladimir Humberto), Caracas, Capital District, Venezuela; DOB 18 Nov 1968; Gender Male; Cedula No. 8760081 (Venezuela); Commander of the Special Unit to the Federal Legislative Palace of Venezuela's Bolivarian National Guard (individual) [VENEZUELA]. Designated pursuant to section 1(a)(ii)(C) of E.O. 13692 for being a current or former official of the Government of Venezuela.

7. MELENDEZ RIVAS, Carmen Teresa (Latin: MELÉNDEZ RIVAS, Carmen Teresa), Lara, Venezuela; DOB 03 Nov 1961; POB Barinas, Venezuela; citizen Venezuela; Gender Female; Cedula No. 8146803 (Venezuela); Constituent of Venezuela's Constituent Assembly for Iribarren Municipality in Lara State (individual) [VENEZUELA]. Designated pursuant to section 1(a)(ii)(C) of E.O. 13692 for being a current or former official of the Government of Venezuela.

8. VIVAS VELASCO, Ramon Dario, Vargas, Venezuela; DOB 12 Jun 1950; citizen Venezuela; Gender Male; Cedula No. 3569721 (Venezuela); Constituent of Venezuela's Constituent Assembly for Vargas Municipality in Vargas State (individual) [VENEZUELA]. Designated pursuant to section 1(a)(ii)(C) of E.O. 13692 for being a current or former official of the Government of Venezuela.

Dated: August 9, 2017.
Andrea M. Gacki,
Acting Director, Office of Foreign Assets Control.

[FR Doc. 2017-17127 Filed 8-11-17; 8:45 am]

BILLING CODE 4810-AL-P